DEPARTMENT OF HOMELAND SECURITY

Federal Emergency Management Agency

[Docket ID FEMA-2023-0002; Internal Agency Docket No. FEMA-B-2360]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before November 24, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2360, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Clay County, Illinois and Incorporated Areas
Project: 16-05-2969S Preliminary Date: July 21, 2022
City of Flora | City Hall, 131 East 2nd Street, Flora, IL 62839.
Unincorporated Areas of Clay County | Clay County Courthouse, 111 East Chestnut Street, Room 106, Louisville, IL 62858.
Village of Clay City | Village Hall, 318 South Walnut Street, Clay City, IL 62824.
Village of Louisville | Village Hall, 177 South Main Street, Louisville, IL 62858.
Village of Sailor Springs | Village Hall, 107 South Washington Street, Sailor Springs, IL 62824.
St. Louis County, Minnesota and Incorporated Areas
Project: 14-05-2193S Preliminary Date: October 28, 2022
Bois Forte Band of Chippewa | Bois Forte Band of Chippewa Tribal Office, 5344 Lakeshore Drive, Nett Lake, MN 55772.
City of Aurora | City Hall, 16 West 2nd Avenue North, Aurora, MN 55705.
City of Babbitt | City Hall, 71 South Drive, Babbitt, MN 55706.
City of Biwabik | City Hall, 321 North Main Street, Biwabik, MN 55708.
City of Brookston | City Hall, 8757 1st Street South, Brookston, MN 55711.
City of Cook | City Hall, 127 South River Street, Cook, MN 55723.
City of Duluth | City Hall, 411 West First Street, Duluth, MN 55802.
City of Ely | City Hall, 209 East Chapman Street, Ely, MN 55731.
City of Floodwood | City Hall, 111 West 8th Avenue, Floodwood, MN 55736.
City of Hermantown | City Hall, 5105 Maple Grove Road, Hermantown, MN 55811.
City of Hibbing | City Hall, 401 East 21st Street, Hibbing, MN 55746.
City of Hoyt Lakes | Municipal Building, 206 Kennedy Memorial Drive, Hoyt Lakes, MN 55750.
City of Iron Junction | City Office, 4141 Merritt Avenue, Iron Junction, MN 55751.
City of Meadowlands | Meadowlands Community Center, 7758 Western Avenue, Meadowlands, MN 55765.
City of Mountain Iron | City Hall, 8586 Enterprise Drive South, Mountain Iron, MN 55768.
City of Orr | City Hall, 4429 Highway 53, Orr, MN 55771.
City of Proctor | City Hall, 100 Pionk Drive, Proctor, MN 55810.
City of Rice Lake | Rice Lake City Hall, 4107 West Beyer Road, Duluth, MN 55803.
City of Tower | City Hall, 602 Main Street, Tower, MN 55790.
City of Virginia | City Hall, 327 South First Street, Virginia, MN 55792.
City of Winton | Winton Community Center, 102 North Main Street, Winton, MN 55796.
Fond du Lac Band of Lake Superior Chippewa | Fond du Lac Band of Lake Superior Chippewa Tribal Center, 1720 Big Lake Road, Cloquet, MN 55720.
Unincorporated Areas of St. Louis County | St. Louis County Courthouse, 100 North 5th Avenue West, Duluth, MN 55802.
Township of Gnesen | Gnesen Community Center, 6356 Howard Gnesen Road, Duluth, MN 55803.
Township of Lakewood | Lakewood Town Hall, 3110 Strand Road, Duluth, MN 55803.
Township of Midway | Midway Town Hall, 3230 Midway Road, Duluth, MN 55810.
Summers County, West Virginia and Incorporated Areas
Project: 21-03-0008S Preliminary Date: September 30, 2022 and May 01, 2023
City of Hinton | City Hall, 322 Summers Street, Hinton, WV 25951.
Unincorporated Areas of Summers County | Summers County Courthouse, 120 Ballengee Street, Suite 203, Hinton, WV 25951.

[FR Doc. 2023-18282 Filed 8-24-23; 8:45 am]

BILLING CODE 9110-12-P